DEPARTMENT OF ENERGY

Federal Energy Regulatory Commission

[Docket No. RP00-361-000]

Natural Gas Pipeline Company of America; Notice of Proposed Changes in FERC Gas Tariff

July 6, 2000.

Take notice that on June 30, 2000, Natural Gas Pipeline Company of America (Natural) tendered for filing to become part of its FERC Gas Tariff, Sixth Revised Volume No. 1, Fifth Revised Sheet No. 238 and Fourth Revised Sheet No. 505, to be effective August 1, 2000.

Natural states that the filing is being submitted to set out a correction to its Tariff relating to the allocation of storage injections by pipeline leg under Natural's Rate Schedule NSS. A related change has been made in the Rate Schedule NSS pro forma service agreement. Natural further states that the allocation provision modified in the present filing was not updated to reflect a tariff change giving more flexibility under Natural's Rate Schedule NSS in contracting by pipeline leg.

Natural requests waiver of the Federal Energy Regulatory Commission's Regulations to the extent necessary to permit the tariff sheets submitted to become effective August 1, 2000.

Natural states that copies of the filing have been mailed to its customers and interested state regulatory agencies.

Any person desiring to be heard or to protest said filing should file a motion to intervene or a protest with the Federal Energy Regulatory Commission, 888 First Street, NE, Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance).

David P. Boergers,
Secretary.

[FR Doc. 00-17554 Filed 7-11-00; 8:45 am]

BILLING CODE 6717-01-M